DEPARTMENT OF DEFENSE

GENERAL SERVICES ADMINISTRATION

NATIONAL AERONAUTICS AND SPACE ADMINISTRATION

48 CFR Chapter 1

[Docket No. FAR-2021-0051, Sequence No. 3]

Federal Acquisition Regulation; Federal Acquisition Circular 2021-06; Small Entity Compliance Guide

AGENCY: Department of Defense (DoD), General Services Administration (GSA), and National Aeronautics and Space Administration (NASA).

ACTION: Small Entity Compliance Guide.

SUMMARY: This document is issued under the joint authority of DOD, GSA, and NASA. This Small Entity Compliance Guide has been prepared in accordance with section 212 of the Small Business Regulatory Enforcement Fairness Act of 1996. It consists of a summary of the rules appearing in Federal Acquisition Circular (FAC) 2021-06, which amends the Federal Acquisition Regulation (FAR). Interested parties may obtain further information regarding these rules by referring to FAC 2021-06, which precedes this document.

DATES: June 10, 2021.

ADDRESSES: The FAC, including the SECG, is available via the internet at https://www.regulations.gov.

FOR FURTHER INFORMATION CONTACT: For clarification of content, contact the analyst whose name appears in the table below. Please cite FAC 2021-06 and the FAR Case number. For information pertaining to status or publication schedules, contact the Regulatory Secretariat Division at 202-501-4755 or GSARegSec@gsa.gov. An asterisk (*) next to a rule indicates that a regulatory flexibility analysis has been prepared.

Rules Listed in FAC 2021-06
Item | Subject | FAR Case | Analyst
*I | Analysis for Equipment Acquisitions | 2019-001 | Jackson.
*II | Application of Micro-purchase Threshold to Task and Delivery Orders | 2020-004 | Jackson.
III | Technical Amendments

SUPPLEMENTARY INFORMATION: Summaries for each FAR rule follow. For the actual revisions and/or amendments made by these FAR rules, refer to the specific item numbers and subjects set forth in the documents following these item summaries. FAC 2021-06 amends the FAR as follows:

Item I—Analysis for Equipment Acquisitions (FAR Case 2019-001)

This final rule amends the FAR to implement section 555 of the FAA Reauthorization Act of 2018 (Pub. L. 115-254). Section 555 requires an agency to acquire equipment using the method of acquisition that is most advantageous to the Government based on a case-by-case analysis. The methods of acquisition to be considered include purchase, short-term rental or lease, long-term rental or lease, interagency acquisition, and agency acquisition agreements, if applicable, with a state or local government. The case-by-case analysis is of comparative costs and other factors, to include the factors in FAR section 7.401.

Item II—Application of Micro-Purchase Threshold to Task and Delivery Orders (FAR Case 2020-004)

This final rule amends the FAR to implement section 826 of the National Defense Authorization Act (NDAA) for Fiscal Year (FY) 2020 (Pub. L. 116-92), which increases the threshold for requiring fair opportunity on orders under multiple-award contracts from $2,500 to the “micro-purchase threshold”. The threshold at FAR 16.505 is currently $3,500, as a result of inflation adjustments in accordance with FAR 1.109. The micro-purchase threshold is currently $10,000. This change applies the word-based threshold to ensure continued alignment with any future changes to the thresholds. This final rule will not have a significant economic impact on a substantial number of small entities.

Item III—Technical Amendments

Editorial changes are made at FAR 11.201, 19.102, 19.201, 19.702, 19.812, 22.805, 26.201, 42.203, 52.211-2, 52.212-1, 52.212-5, 52.213-4, 52.222-8, 52.244-6, and 53.236-2.

William F. Clark,
Director, Office of Government-wide Acquisition Policy, Office of Acquisition Policy, Office of Government-wide Policy.

[FR Doc. 2021-11868 Filed 6-9-21; 8:45 am]

BILLING CODE 6820-EP-P